DEPARTMENT OF THE INTERIOR

Fish and Wildlife Service

DEPARTMENT OF COMMERCE

National Oceanic and Atmospheric Administration

[I.D. 051906E]

Notice of Intent to Conduct Public Scoping and to Prepare an Environmental Impact Statement Related to the City of Kent, Washington (WA), Clark Springs Water Supply System Habitat Conservation Plan

AGENCY: Fish and Wildlife Service (FWS), Interior; National Marine Fisheries Service (NMFS), National Oceanic and Atmospheric Administration (NOAA), Commerce.

ACTION: Notice; scoping meetings.

SUMMARY: The U.S. Fish and Wildlife Service and the National Marine Fisheries Service (Services) advise interested parties of their intent to conduct public scoping under the National Environmental Policy Act (NEPA) to gather information to prepare an Environmental Impact Statement (EIS) related to a permit application from the City of Kent, WA, for the incidental take of listed species. The permit application would be associated with the Clark Springs Water Supply System Habitat Conservation Plan, in Rock Creek, near Kent, WA.

DATES: The public scoping meeting will be held on June 29, 2006, from 6—8 p.m.. in Kent, WA.

Written comments should be received on or before August 3, 2006.

ADDRESSES: The public scoping meeting will be held in the Kent City Hall Council Chambers, 220 Fourth Avenue South, Kent, WA 98032.

All comments concerning the preparation of the EIS and the NEPA process should be addressed to: Tim Romanski, FWS, 510 Desmond Drive SE, Suite 102, Lacey, WA 98503-1263, facsimile (360)753-9518, or John Stadler, NMFS, 510 Desmond Drive SE, Suite 103, Lacey, WA 98503-1273, facsimile (360)753-9517. Comments may be submitted by e-mail to the following address: KentHCP.nwr@noaa.gov. In the subject line of the e-mail, include the document identifier: The City of Kent HCP - EIS.

FOR FURTHER INFORMATION CONTACT: Tim Romanski, FWS (360)753-5823; or John Stadler, NMFS (360)753-9576.

SUPPLEMENTARY INFORMATION:

Statutory Authority

Section 9 of the Endangered Species Act (ESA) (16 U.S.C. 1538) and implementing regulations prohibit the taking of animal species listed as endangered or threatened. The term “take” is defined under the ESA (16 U.S.C. 1532(19)) as to harass, harm, pursue, hunt, shoot, wound, kill, trap, capture, or collect, or to attempt to engage in any such conduct. “Harm” is defined by FWS regulation to include significant habitat modification or degradation where it actually kills or injures wildlife by significantly impairing essential behavioral patterns, including breeding, feeding, and sheltering (50 CFR 17.3). NMFS' definition of “harm” includes significant habitat modification or degradation where it actually kills or injures fish or wildlife by significantly impairing essential behavioral patterns, including breeding, feeding, spawning, migrating, rearing, and sheltering (64 FR 60727, November 8, 1999).

Section 10 of the ESA and implementing regulations specify requirements for the issuance of incidental take permits (ITPs) to non-Federal landowners for the take of endangered and threatened species. Any proposed take must be incidental to otherwise lawful activities, not appreciably reduce the likelihood of the survival and recovery of the species in the wild, and minimize and mitigate the impacts of such take to the maximum extent practicable. In addition, the applicant must prepare a habitat conservation plan (HCP) describing the impact that will likely result from such taking, the strategy for minimizing and mitigating the take, the funding available to implement such steps, alternatives to such taking, and the reason such alternatives are not being implemented.

NEPA (42 U.S.C. 4321 et seq.) requires that Federal agencies conduct an environmental analysis of their proposed actions to determine if the actions may significantly affect the human environment. Under NEPA, a reasonable range of alternatives to proposed projects is developed and considered in the Services' environmental review. Alternatives considered for analysis in an EIS may include: variations in the scope of covered activities; variations in the location, amount, and type of conservation; variations in permit duration; or a combination of these elements. In addition, the EIS will identify potentially significant direct, indirect, and cumulative impacts on biological resources, land use, air quality, water quality, water resources, socioeconomics, and other environmental issues that could occur with the implementation of the applicant's proposed actions and alternatives. For potentially significant impacts, an EIS may identify avoidance, minimization, or mitigation measures to reduce these impacts, where feasible, to a level below significance.

Background

An EIS for the City of Kent Clark Springs HCP would analyze the potential issuance of two ITPs, one by NMFS and one by the FWS. To obtain an ITP, the applicant must prepare an HCP that meets the issuance criteria established by the ESA and Service regulations (50 CFR 17.22(b)(2), 17.32(b)(2), and 222.307). Should a permit or permits be issued, the permit(s) may include assurances under the Services' “No Surprises” regulations.

The City of Kent is located in South King County and is a municipality of approximately 85,000 residents with approximately 60,000 people within the City's water service area. The City's Clark Springs Water Supply System is located along Rock Creek, located east of Maple Valley. The Clark Springs Water Supply System serves as the City's primary source of water, and provides up to 65 percent of the City's total water supply. This water supply allows the City to meet the demands of the City's industrial, commercial, residential and domestic water users, and for meeting the economic and human health, fire, and life safety requirements of the citizens and businesses in the area.

The City is seeking ITPs from the Services that would provide ESA regulatory certainty for the Clark Springs water supply operations and maintenance activities, which consists of an infiltration gallery system and several wells located adjacent to Rock Creek, that are sited 1.9 miles upstream of the creek's confluence with the Cedar River. The facility is within a 320-acre City-owned watershed geographically separated from the City proper.

The proposed HCP and ITPs would cover incidental take associated with the operation and maintenance of its Clark Springs Water Supply System, including: (1) water withdrawals consistent with water rights for the Clark Springs System; (2) maintenance of 320 acres of City-owned property and water facilities related to the use and protection of water supplies, including but not limited to, replacement or upgrading of facilities and infrastructure as needed, vegetation management, and additional treatment facilities as required; and (3) operation and maintenance of a water augmentation system for the enhancement of instream flows.

Species for which the City seeks ITP coverage include nine species of fish. Two of these species, Puget Sound Chinook salmon (Oncorhynchus tshawytscha) and bull trout (Salvelinus confluentus), are currently listed as threatened under the ESA, and one species, Puget Sound steelhead (O. mykiss), has been proposed for listing as threatened under the ESA. The remaining six species are not listed, or proposed for listing, under the ESA, and include coho salmon (O. kisutch), chum salmon (O. keta), sockeye salmon (O. nerka), coastal cutthroat trout (O. clarki clarki), Pacific lamprey (Lampetra tridentate) and river lamprey (L. ayresi). Each of these species may be affected by the City's water withdrawal activities at the Clark Springs facility in the Rock Creek Watershed.

The draft HCP, to be prepared by the City in support of the ITP applications, will describe the impacts of take on proposed covered species, and will propose a conservation strategy to minimize and mitigate those impacts to the maximum extent practicable. The City will develop habitat conservation measures for fish and their associated habitat, with assistance from the Services.

The City is currently considering the following conservation measures as part of the HCP: (1) Flow mitigation during the critical low flow period of October, November, and December; (2) improving fish passage in Rock Creek downstream of the Clark Springs Facility; (3) improving juvenile salmonid habitat by enhancing wetland areas and placement of large woody debris; and (4) creating a fund for riparian area protection and enhancement opportunities in the Rock Creek Basin, which may include, but not be limited to, property acquisitions and easements. The City is proposing to implement these conservation measures for the duration of the HCP and term of the ITPs. Implementation of the HCP would include monitoring compliance and regular reporting to the Services.

Under NEPA, a reasonable range of alternatives to a proposed project must be developed and considered in the Services' environmental review. At a minimum, the alternatives developed must include: (1) a No Action alternative; and (2) the Proposed Action, with thorough descriptions of its management features and anticipated resource conservation benefits and potential impacts. The Services are currently developing alternatives for analysis, which will consider public input received during scoping and development of the EIS. The alternatives considered for analysis in this EIS may include: (1) variations in the scope of covered activities; (2) variations in the location, amount, and type of conservation; (3) variations in permit duration; or (4) a combination of these elements.

Request for Comments

The primary purpose of the scoping process is for the public to assist the Services in developing the EIS by identifying important issues and alternatives related to the applicant's proposed action. The scoping workshop will allocate time for presentations by the Services and the City, followed by informal questions and discussions.

Written comments from interested parties are welcome to ensure that the full range of issues related to the proposed permit request are identified. All comments and materials received, including names and addresses, will become part of the administrative record and may be released to the public.

Comments and materials received will be available for public inspection, by appointment, during normal business hours at the offices listed in the ADDRESSES section of this notice.

The Services request that comments be specific. In particular, we request information regarding: direct, indirect, and cumulative impacts that implementation of the proposed HCP or other alternatives could have on endangered and threatened and other covered species, and their communities and habitats; other possible alternatives that meet the purpose and need of the proposed HCP; potential adaptive management and/or monitoring provisions; funding issues; existing environmental conditions in the plan area; other plans or projects that might be relevant to this proposed project; permit duration; maximum acreage that should be covered; specific species that should or should not be covered; specific landforms that should or should not be covered; and minimization and mitigation efforts. NMFS and FWS estimate that the draft EIS will be available for public review in the summer of 2006.

The environmental review of this project will be conducted in accordance with the requirements of the NEPA of 1969, as amended (42 U.S.C. 4321 et seq.), Council on Environmental Quality Regulations (40 CFR parts 1500 1508), other applicable Federal laws and regulations, and applicable policies and procedures of the Services. This notice is being furnished in accordance with 40 CFR 1501.7 of the NEPA regulations to obtain suggestions and information from other agencies and the public on the scope of issues and alternatives to be addressed in the EIS.

Reasonable Accommodation

Persons needing reasonable accommodations to attend and participate in the public meeting should contact Tim Romanski or John Stadler (see FOR FURTHER INFORMATION CONTACT). To allow sufficient time to process requests, please call no later than June 22, 2006. Information regarding the applicant's proposed action is available in alternative formats upon request.

Dated: June 12, 2006.
Theresa E, Rabot,
Acting Deputy Regional Director, Fish and Wildlife Service, Region 1, Portland, Oregon.
Dated: June 12, 2006.
Angela Somma,
Chief, Endangered Species Division, Office of Protected Resources, National Marine Fisheries Service.

[FR Doc. 06-5487 Filed 6-16-06; 8:45 am]

BILLING CODE 4310-55-S and 3510-22-S